DEPARTMENT OF VETERANS AFFAIRS

Advisory Committee on Prosthetics and Special-Disabilities Programs, Notice of Meeting

The Department of Veterans Affairs (VA) gives notice under the Federal Advisory Committee Act, FACA 5 U.S.C. ch. 10, that a meeting of the Federal Advisory Committee on Prosthetics and Special-Disabilities Programs will be held on Thursday, July 25-Friday, July 26, 2024. The meeting will be a hybrid meeting, held in-person at the New Orleans Ernest N. Morial Convention Center, 900 Convention Center Boulevard, New Orleans, Louisiana 70130, and virtually via WebEx. The meeting sessions will begin and end as follows:

Date | Time (Central Daylight Time)
July 25, 2024 | 8:15 a.m.-4:30 p.m.
July 26, 2024 | 8:15 a.m.-12:00 p.m.

This meeting is open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On July 25, 2024, the Committee will convene open (hybrid) sessions, from 8:15 a.m.-3:00 p.m. CDT, with introductory remarks from the Committee Acting Chair; and the Executive Director and Deputy Executive Director of Rehabilitation and Prosthetic Services. The Committee will have presentations from Physical Medicine & Rehabilitation and the Polytrauma/Traumatic Brain Injury System of Care. The Committee will also hear from Physical Therapy and Occupational Therapy programs. The afternoon will include presentations from the Polytrauma/Amputation System of Care; and Orthotic, Prosthetic and Pedorthic Clinical Services. After Program Office presentations, the Committee will attend National Veteran Wheelchair Games events starting at 3:15 p.m. CDT that will be open to anyone present at the events.

On July 26, 2024, the Committee members will convene open (hybrid) sessions from 8:15 a.m.-12:00 p.m. CDT, beginning with introductory remarks and review of day one. Immediately following there will be presentations on Chiropractic Care; and Spinal Cord Injury and Disorders programs.

Time will be allocated for receiving public comments on July 26, 2024, beginning at 10:30 a.m. CDT. Individuals wishing to present public comments should contact Ms. Linda Picon, M.C.D., Designated Federal Officer, Veterans Health Administration at Linda.Picon@va.gov or at 202-870-1155 no later than close of business on July 12, 2024. Only the first 4 members of the public who have confirmed registrations to present public comment will be allowed to speak at this meeting. In the interest of time, each speaker will be held to a 5-minute time limit. Members of the public who are unable to attend may submit written comments for Committee review. Written comments may be received no later than July 17, 2024, for Committee discussion and inclusion in the official meeting record. Please send these comments to Linda.Picon@va.gov.

Members of the public should contact Linda Picon and provide your name, professional affiliation, email address, and phone number to obtain a copy of the agenda or seek additional information. Members of the public may attend the meeting in person or by joining the WebEx link below: https://veteransaffairs.webex.com/veteransaffairs/j.php?MTID=medb02dbc6c87eeab5d10f4f408a04906.

Audio Only 404.397.1596/Access Code 2822 111 1294.

Dated: June 28, 2024.
LaTonya L. Small,
Federal Advisory Committee Management Officer.

[FR Doc. 2024-14679 Filed 7-2-24; 8:45 am]

BILLING CODE P